NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before June 12, 2008. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001.

E-mail: requestschedule@nara.gov.

Fax: 301-837-3698.

Requesters must cite the control number, which appears in parentheses after the name of the agency which submitted the schedule, and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1228.24(b)(3).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Agriculture, Agricultural Marketing Service (N1-136-06-6, 9 items, 7 temporary items). Databases and case files associated with the Plant Variety Protection Office (PVPO). Scheduled for temporary retention are accounting and tracking databases; reference databases; individual plant examiner files; name files; financial files; and case files for which PVPO certificates were not issued. Proposed for permanent retention are crop species databases and case files for which PVPO certificates were issued.

2. Department of Agriculture, Agricultural Research Service (N1-310-08-1, 9 items, 9 temporary items). Inputs and master files relating to an electronic information system that manages, tracks, documents, provides access to, and reports on research conducted primarily within the USDA/state agricultural research system. All significant information about the research itself as well as project outcomes is captured in the Current Research Information System, which has been scheduled as permanent. The proposed disposition instructions for master files are limited to electronic records.

3. Department of Defense, Defense Commissary Agency (N1-506-07-13, 2 items, 2 temporary items). Records relating to presentations by the agency head and business unit reports of activities. Reports and presentations having historical value were previously approved for permanent retention.

4. Department of Defense, Defense Commissary Agency (N1-506-08-1, 5 items, 5 temporary items). Records relating to ordering and pricing produce. Included are such records as pricing and availability information from suppliers, orders, shipping lists, stock levels, reports, pricing changes and inventories.

5. Department of Defense, Defense Logistics Agency (N1-361-06-1, 3 items, 3 temporary items). Master data file and outputs associated with an electronic information system used to supply clothing for military recruits and other military related personnel.

6. Department of Health and Human Services, Food and Drug Administration (N1-88-07-1, 44 items, 41 temporary items). Records of the National Center for Toxicological Research, including research project management records, research data, experiment protocols, and employee and materials safety records regarding radioactive and biological hazards. Proposed for permanent retention are program planning and policy records, annual research accomplishments and plans, and technical reports and manuscripts on research findings. The proposed disposition instructions are limited to paper records for technical reports and manuscripts on research findings.

7. Department of Homeland Security, Federal Emergency Management Agency (N1-311-08-1, 2 items, 2 temporary items). Recordings of telephone calls received from individuals seeking disaster assistance and associated records used to evaluate employee performance during the calls.

8. Department of Homeland Security, Federal Emergency Management Agency (N1-311-08-2, 1 item, 1 temporary item). National Emergency Training Center admission applications and course completion records, including competency scores and transcripts.

9. Department of Homeland Security, Management Directorate (N1-563-08-15, 1 item, 1 temporary item). Master file for an electronic information system used to track and evaluate performance of mail processing operations.

10. Department of Homeland Security, U.S. Citizenship and Immigration Services (N1-566-08-10, 1 item, 1 temporary item). Master file associated with an electronic information system containing biometric and biographical data on individuals applying for immigration benefits and used to produce identification cards. More complete information on an individual can be found in the Alien Files and will be scheduled for permanent retention.

11. Department of the Interior, National Business Center (N1-48-08-3, 6 items, 6 temporary items). Records relating to the Federal Personnel and Payroll System that include the master data files, software application requests, retirement records, and predict files. The proposed disposition instructions for the master data files and predict documentation are limited to electronic records.

12. Department of Justice, Bureau of Alcohol, Tobacco, Firearms, and Explosives (N1-436-07-5, 2 items, 2 temporary items). Master file of a financial information system that captures work flow data and images of financial records.

13. Department of Justice, Bureau of Alcohol, Tobacco, Firearms and Explosives (N1-436-08-7, 2 items, 2 temporary items). Inputs and master file of the Giglio data system which stores potential witness impeachment data for employees.

14. Department of Justice, Executive Office for U.S. Attorneys (N1-60-08-5, 4 items, 4 temporary items). Inputs, outputs, and master file for the Victim Notification System, which tracks and provides notification of significant case events and activity to victims of federal crimes.

15. Department of the Navy, Agency-wide (N1-NU-08-2, 1 item, 1 temporary item). Unsolicited communications of information related to security of agency personnel or property determined to warrant no further investigation.

16. Department of the Navy, United States Marine Corps (N1-NU-07-12, 1 item, 1 temporary item). Master file associated with an electronic information system that tracks progression of military justice cases to ensure a speedy trial. The proposed disposition instructions are limited to electronic records.

17. Environmental Protection Agency, Office of the Chief Financial Officer (N1-412-07-69, 8 items, 6 temporary items). This schedule authorizes the agency to apply existing disposition instructions to records regardless of the recordkeeping medium. The records include time and attendance records used for payroll processing, payroll support and payroll control records, pay folders, external accounting reports required by Government-wide regulations, and administrative documentation relating to audit resolution. Paper recordkeeping copies of these files, with the exception of administrative documentation relating to audit resolution, were previously authorized for disposal. Also included are audit resolution board case files, for which paper recordkeeping copies previously were approved as permanent.

18. Environmental Protection Agency, Office of Water (N1-412-08-1, 4 items, 4 temporary items). Input, electronic data, system documentation, and implementation files for the Safe Drinking Water Accession and Review System, which supports the management of laboratory data collected under the unregulated contaminant monitoring rule.

19. Environmental Protection Agency, Office of Water (N1-412-08-2, 2 items, 2 temporary items). Input and electronic data for the National Contaminant Occurrence database, which contains occurrence data from public water systems and other sources on physical, chemical, microbial and radiological contaminants for both detections and non-detects.

20. Federal Maritime Commission, Bureau of Trade Analysis (N1-358-08-05, 2 items, 2 temporary items). Master file and outputs supporting an automated tariff registration system that provides tariff publication locations for shippers and the public.

21. National Archives and Records Administration, Office of Administration (N1-64-08-8, 4 items, 4 temporary items). Master file and related records for a legacy automated property management system used to track agency accountable personal property.

Dated: May 8, 2008.
Sharon Thibodeau,
Deputy Assistant Archivist for Records Services—Washington, DC.

[FR Doc. E8-10700 Filed 5-12-08; 8:45 am]

BILLING CODE 7515-01-P